DEPARTMENT OF THE INTERIOR

Bureau of Indian Affairs

Notice of Cancellation of the Environmental Impact Statement for the Proposed Stockbridge—Munsee Casino, Sullivan County, NY

AGENCY: Bureau of Indian Affairs, Interior.

ACTION: Notice.

SUMMARY: This notice advises the public that the Bureau of Indian Affairs (BIA) intends to cancel work on the Environmental Impact Statement (EIS) for the proposed taking into federal trust of land in Sullivan County, New York, for the Stockbridge—Munsee Community Band of Mohican Indians of Wisconsin (Tribe). The Tribe proposed to develop and operate a Class III gaming facility and associated facilities on the trust property. The EIS is no longer needed because the Department of the Interior has decided not to accept the land into trust, on the basis that the proposed action did not adequately meet criteria in 25 CFR 151.3; 151.10(b); 151.10(c); and 151.11(b) for trust acquisition.

DATES: This cancellation is effective April 8, 2008. Any written comments must arrive by April 7, 2008.

ADDRESSES: You may mail, hand carry or fax written comments to Mr. Franklin Keel, Regional Director, Eastern Region, Bureau of Indian Affairs, 545 Marriott Drive, Suite 700, Nashville, Tennessee 37214, fax (615) 564-6701.

FOR FURTHER INFORMATION CONTACT: Kurt G. Chandler, (615) 564-6832.

SUPPLEMENTARY INFORMATION: The BIA published its Notice of Intent to prepare the EIS on November 24, 2003, in the Federal Register (68 FR 65467). The notice included project details. The U.S. Environmental Protection Agency published its Notice of Availability of the Draft EIS for this proposed action on February 11, 2005, in the Federal Register (70 FR 7257).

Public Comment Availability

Comments, including names and addresses of respondents, will be available for public review at the BIA address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with sections 1503.1 and 1506.6 of the Council on Environmental Quality Regulations (40 CFR parts 1500 through 1508) implementing the procedural requirements of the National Environmental Quality Act of 1969, as amended (42 U.S.C. 4321 et. seq.), and the Department of the Interior Manual (516 DM 1-6), and is in the exercise of authority delegated to the Assistant Secretary—Indian Affairs by 209 DM 8.1.

Dated: February 22, 2008.
James E. Cason,
Associate Deputy Secretary.

[FR Doc. E8-4356 Filed 3-5-08; 8:45 am]

BILLING CODE 4310-W7-P